DEPARTMENT OF ENERGY

Federal Energy Regulatory Commission

[Docket No. CP02-155-002]

Gulf South Pipeline Company, LP; Notice of Compliance Filing

August 12, 2003.

Take notice that on August 6, 2003, Gulf South Pipeline Company, LP (Gulf South) tendered for filing as part of its FERC Gas Tariff, Sixth Revised Volume No. 1, the following tariff sheets, to become effective October 1, 2003.

Third Revised Sheet No. 1.

Fourth Revised Sheet No. 2.

Substitute First Revised Sheet No. 25A.

First Revised Sheet No. 450.

First Revised Sheet No. 451.

First Revised Sheet No. 452.

First Revised Sheet No. 453.

First Revised Sheet No. 454.

First Revised Sheet No. 455.

Second Revised Sheet No. 440.1

Sheet Nos. 4402-4499.

Gulf South states that the referenced tariff sheets related to Gulf South's proposed FSS-M Service (Firm Storage Service—Magnolia) are filed pursuant to the Commission's directives.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: August 18, 2003.

Linda Mitry,
Acting Secretary.

[FR Doc. 03-21094 Filed 8-15-03; 8:45 am]

BILLING CODE 6717-01-P